DEPARTMENT OF STATE

22 CFR Part 41

[Public Notice 3858]

Documentation of Nonimmigrants Under the Immigration and Nationality Act, as Amended—Additional International Organization

AGENCY: Department of State.

ACTION: Interim rule with request for comments.

SUMMARY: This rule adds INTELSAT (following privatization) as an “international organization” to the current definition which includes within that term only organizations so designated by the President.

DATES: Effective January 11, 2002. Written comments may be submitted on or before March 12, 2002.

ADDRESSES: Written comments may be submitted, in duplicate, to the Chief, Legislation and Regulations Division, Visa Services, Department of State, Washington, DC 20520-0106.

FOR FURTHER INFORMATION CONTACT: Elizabeth J. Harper, Legislation and Regulations Division, Visa Services, Department of State, Washington, DC 20520-0106, (202) 663-1221, e-mail harperbj@state.gov, or fax at (202) 663-3898.

SUPPLEMENTARY INFORMATION: Section 301 of Public Law 106-396 (47 U.S.C. 763, October 30, 2000) provides that certain aliens who were officers or employees of INTELSAT before its privatization and who had had and had maintained the status of “international organization alien” under the terms of section 101(a)(15)(G) of the Immigration and Nationality Act will continue to be eligible for such classification as long as they are officers or employees of INTELSAT or any successor or separated entity of INTELSAT. The current regulation (22 CFR 41.24) defines an “international organization” as one designated by the President as entitled to the privileges and immunities provided under the International Organizations Immunities Act (22 U.S.C. 288). Although INTELSAT was and is so designated (while not yet privatized), it would appear that its status (and that of separated or successor entities) as an international organization for non-immigrant visa purposes after privatization would be contingent upon this legislation. It is believed, therefore, that the regulation should so specify in the interest of clarity.

No other changes are effected by this regulation.

Regulatory Analysis and Notices

Administrative Procedure Act

The Department is publishing this rule as an interim rule, with a 60-day provision for post-promulgation public comments, based on the “good cause” exceptions set forth at 5 U.S.C. 553(b)(3)(B) and 553(d)(3). The rule makes no substantive changes in visa operations. It simply acknowledges that a different statute conferred the designation of “international organization” in this instance.

Regulatory Flexibility Act

Pursuant to § 605 of the Regulatory Flexibility Act, the Department has assessed the potential impact of this rule, and the Assistant Secretary for Consular Affairs hereby certifies that is not expected to have a significant economic impact on a substantial number of small entities.

Unfunded Mandates Reform Act of 1995

This rule will not result in the expenditure by State, local and tribal governments, in the aggregate, or by the private sector, of $100 million in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review. Therefore, in accordance with the letter to the Department of State of February 4, 1994, from the Director of the Office of Management and Budget, it does not require review by the Office of Management and Budget.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 41

Aliens, Nonimmigrants, Passports and visas.

Accordingly, the Department of State amends 22 CFR Chapter I as follows:

PART 41—[AMENDED]

1. The authority citation for part 41 continues to read:

Authority: 8 U.S.C. 1104.

2. Amend § 41.24 by revising paragraph (a) to read as follows:

§ 41.24 International organization aliens.

(a) Definition of international organization. “International organization” means: (1) Any public international organization which has been designated by the President by Executive Order as entitled to enjoy the privileges, exemptions, and immunities provided for in the International Organizations Immunities Act (59 Stat. 669, 22 U.S.C. 288) and

(2) INTELSAT, following privatization, and any successor or separated entity thereof, as so designated by section 301 of Public Law 106-396.

* * * * *

Dated: November 28, 2001.
Mary A. Ryan,
Assistant Secretary for Consular Affairs, Department of State.

[FR Doc. 02-271 Filed 1-10-02; 8:45 am]

BILLING CODE 4710-06-P